INTERNATIONAL TRADE COMMISSION

[Investigation Nos. 701-TA-584 and 731-TA-1382 (Final)]

Uncoated Groundwood Paper From Canada

Determinations

On the basis of the record ¹ developed in the subject investigations, the United States International Trade Commission (“Commission”) determines, pursuant to the Tariff Act of 1930 (“the Act”), that an industry in the United States is not materially injured or threatened with material injury, and the establishment of an industry in the United States is not materially retarded, by reason of imports of uncoated groundwood paper from Canada, provided for in subheadings 4801.00.01, 4802.61.10, 4802.61.20, 4802.61.31, 4802.61.60, 4802.62.10, 4802.62.20, 4802.62.30, 4802.62.61, 4802.69.10, 4802.69.20, and 4802.69.30 of the Harmonized Tariff Schedule of the United States, that have been found by the U.S. Department of Commerce (“Commerce”) to be sold in the United States at less than fair value (“LTFV”), and to be subsidized by the government of Canada.

¹ The record is defined in sec. 207.2(f) of the Commission's Rules of Practice and Procedure (19 CFR 207.2(f)).

Background

The Commission, pursuant to sections 705(b) and 735(b) of the Act (19 U.S.C. 1671d(b) and 19 U.S.C. 1673d(b)), instituted these investigations effective August 9, 2017, following receipt of a petition filed with the Commission and Commerce by North Pacific Paper Company (“NORPAC”), Longview, Washington. The final phase of the investigations was scheduled by the Commission following notification of preliminary determinations by Commerce that imports of uncoated groundwood paper from Canada were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on April 2, 2018 (83 FR 14026). The hearing was held in Washington, DC, on July 17, 2018, and all persons who requested the opportunity were permitted to appear in person or by counsel.

The Commission made these determinations pursuant to sections 705(b) and 735(b) of the Act (19 U.S.C. 1671d(b) and 19 U.S.C. 1673d(b)). It completed and filed its determinations in these investigations on September 24, 2018. The views of the Commission are contained in USITC Publication 4822 (September 2018), entitled Uncoated Groundwood Paper from Canada: Investigation Nos. 701-TA-584 and 731-TA-1382 (Final).

By order of the Commission.
Issued: September 24, 2018.
Lisa Barton,
Secretary to the Commission.

[FR Doc. 2018-21050 Filed 9-26-18; 8:45 am]

BILLING CODE 7020-02-P